DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 20, 2001.

Interested persons are invited to submit written comments regarding the subject matter of the investigations to the Director, Division of Trade Adjustment Assistance, at the address shown below, not later than February 20, 2001.

The petitions filed in this case are available for inspection at the Office of the Director, Division of Trade Adjustment Assistance, Employment and Training Administration, U.S. Department of Labor, Room C-5311, 200 Constitution Avenue, NW., Washington, DC 20210.

Signed at Washington, DC this 22nd day of January, 2001.
Edward A. Tomchick,
Director, Division of Trade Adjustment Assistance.

Appendix
[Petitions instituted on 01/22/2001]
TA-W | Subject firm (petitioners) | Location | Date of petition | Product(s)
38,561 | Oshkosh B'Gosh (Co.) | Byrdstown, TN | 01/08/2001 | Children's Apparel.
38,562 | Babcock Borsig Power (IBM) | Erie, PA | 12/30/2000 | Boilers and Replacement Parts.
38,563 | Benel Manufacturing (Co.) | Dunn, NC | 01/08/2001 | Apparel.
38,564 | Outboard Marine—OMC (Wkrs) | Andrews, NC | 01/05/2001 | Outboard Motors.
38,565 | Outboard Marine—OMC (Wkrs) | Waukegan, IL | 01/05/2001 | Outboard Motors.
38,566 | Fechheimer Brothers Co. (Wkrs) | San Antonio, TX | 01/01/2001 | Uniforms for School Bands.
38,567 | Perelli Tire North Americ (Co.) | Hanford, CA | 01/09/2001 | Passenger and Light Truck Tires.
38,568 | Security Chain Co. (Wkrs) | Clackamas, OR | 12/20/2000 | Cabe Tire Chains.
38,569 | EGS Electrical Group (USWA) | Terryville, CT | 01/05/2001 | Electrical Fittings.
38,570 | Commerce Plastics—Manar (Wkrs) | Commerce, GA | 12/21/2000 | TV Cabinets.
38,571 | Shorwood Packaging (Co.) | Cincinnati, OH | 01/10/2001 | Folding Cartons.
38,572 | Outboard Marine—OMC (Wkrs) | Calhoun, GA | 01/04/2001 | Outboard Motors.
38,573 | Mann Edge Tool (Co.) | Lewistown, PA | 01/05/2001 | Striking Tools.
38,574 | Lowe Aluminum Boats (Co.) | Syracuse, IN | 01/04/2001 | Aluminum Boats and Pontoons.
38,575 | Rossville Chromatex—Culp (UNITE) | West Hazelton, PA | 01/08/2001 | Upholstery Materials.
38,576 | Northwest Alloys, Inc. (Wkrs) | Addy, WA | 01/04/2001 | Pure Metal Magnesium.
38,577 | Linkbolt Construction (Wkrs) | Lexington, KY | 01/10/2001 | Escavators.
38,578 | Berne Apparel Co. (Wkrs) | Hardinsburg, KY | 01/05/2001 | Work Clothing.

[FR Doc. 01-3301 Filed 2-7-01; 8:45 am]

BILLING CODE 4510-30-M